DEPARTMENT OF ENERGY

Federal Energy Regulatory Commission

[Docket No. AD23-5-000]

Roundtable on Environmental Justice and Equity in Infrastructure Permitting; Supplemental Notice of Roundtable

As announced in the Notice of Roundtable and Request for Panelists issued in this proceeding on January 27, 2023, the Federal Energy Regulatory Commission (Commission or FERC) will convene a Commissioner-led roundtable to discuss environmental justice and equity in its jurisdictional infrastructure permitting processes. The roundtable will be held on Wednesday, March 29, 2023, from 9:30 a.m. to 3:30 p.m. Eastern time. This roundtable will be held in person in the Commission Meeting Room at the Federal Energy Regulatory Commission, 888 First Street NE, Washington, DC 20426, with hybrid capabilities.

The preliminary agenda for this event is attached. The roundtable will be open for the public to attend both in-person and virtually, and there is no fee for attendance. Simultaneous Spanish translation will be available for virtual attendees. Members of the public are encouraged, but not required, to pre-register on the event page for both virtual and in-person attendance. In-person seating will be provided on a first-come, first-serve basis on the day of the event and overflow rooms will be available. A second supplemental notice will be issued prior to the roundtable with the confirmed panelists and questions. Information on this roundtable will also be posted on the Calendar of Events on the Commission's website, www.ferc.gov, prior to the event.

The event will be recorded and recordings in both English and Spanish will be posted within one day of the event. English and Spanish transcriptions will also be made available following the event at no charge.

As a reminder, the Commission is seeking nominations of panelists to participate in the roundtable by February 17, 2023. Each nomination should indicate name, contact information, organizational affiliation, and what issues the proposed panelist would speak on to EnvironmentalJusticeRoundtable@ferc.gov.

Commission conferences are accessible under section 508 of the Rehabilitation Act of 1973. American Sign Language Interpretation will be provided for in-person attendees and the live stream will feature closed captioning. For additional accessibility accommodations, please send an email to accessibility@ferc.gov, call toll-free (866) 208-3372 (voice) or (202) 208-8659 (TTY), or send a fax to (202) 208-2106 with the required accommodations.

For more information about this roundtable, please contact EnvironmentalJusticeRoundtable@ferc.gov. For information related to logistics, please contact Sarah McKinley at sarah.mckinley@ferc.gov or (202) 502-8368.

Dated: February 14, 2023.
Kimberly D. Bose,
Secretary.

[FR Doc. 2023-03545 Filed 2-17-23; 8:45 am]

BILLING CODE 6717-01-P